Memorandum of May 15, 2015

Delegation of Functions Under the Foreign Narcotics Kingpin Designation Act

Memorandum for the Secretary of the Treasury

By the authority vested in me as President by the Constitution and the laws of the United States of America, including section 301 of title 3, United States Code, I hereby delegate the functions conferred upon the President by sections 804(b), (c), (g), and (h) of the Foreign Narcotics Kingpin Designation Act (21 U.S.C. 1903(b), (c), (g), and (h)), to the Secretary of the Treasury.

You are authorized and directed to publish this memorandum in the Federal Register.

THE WHITE HOUSE,

Washington, May 15, 2015

[FR Doc. 2015-12447

Filed 5-19-15; 11:15 am]

Billing code 4811-33